DEPARTMENT OF LABOR

Occupational Safety and Health Administration

[Docket No. OSHA-2007-0011]

Federal Advisory Council on Occupational Safety and Health

AGENCY: Occupational Safety and Health Administration (OSHA), Labor.

ACTION: Reopening of the record for submission of nominations for membership on the Federal Advisory Council on Occupational Safety and Health (FACOSH).

SUMMARY: On December 10, 2007, OSHA published a Federal Register notice inviting interested parties to submit nominations for membership on FACOSH. In that notice, OSHA set a submission deadline of January 9, 2008. OSHA is reopening the record to allow additional time for interested parties to submit nominations.

DATES: The revised deadline for submitting FACOSH nominations is February 19, 2008.

ADDRESSES: You may submit nominations for FACOSH, identified by Docket No. OSHA-2007-0011, by any of the following methods:

Electronically: Nominations, including attachments, may be submitted electronically at http://www.regulations.gov, the Federal eRulemaking Portal. Follow the online instructions for submitting nominations.

Facsimile: If your nomination, including attachments, does not exceed 10 pages, you may fax it to the OSHA Docket Office at (202) 693-1648.

Mail, Express Delivery, Hand Delivery, Messenger or Courier Service: Submit three copies of your nomination to the OSHA Docket Office, Room N-2625, U.S. Department of Labor, 200 Constitution Avenue, NW., Washington, DC 20210; telephone (202) 693-2350 (TTY number (877) 889-5627). Deliveries (hand, express mail, messenger and courier service) are accepted during the Department of Labor's and Docket Office's normal business hours, 8:15 a.m.—4:45 p.m., e.t.

Instructions: All nominations for FACOSH must include the agency name and docket number for this Federal Register notice (Docket No. OSHA-2007-0011). All submissions in response to this Federal Register notice, including personal information provided, will be posted without change at http://www.regulations.gov. Therefore, OSHA cautions interested parties about submitting personal information such as social security numbers and birth dates. Because of security-related procedures, submitting nominations by regular mail may result in a significant delay in their receipt. Please contact the OSHA Docket Office, at the address above, for information about security procedures for submitting nominations by hand delivery, express delivery, and messenger or courier service.

For additional instructions and information on submitting nominations, see 72 FR 69713 (Dec. 10, 2007).

Docket: To read or download submissions, go to http://www.regulations.gov. All documents in the docket are listed in the http://www.regulations.gov index. Although listed in the index, some documents (e.g., copyrighted material) are not publicly available to read or download through http://www.regulations.gov. All submissions, including copyrighted material, are available for inspection and copying at the OSHA Docket Office at the address above.

Information on using the http://www.regulations.gov Web site to make submissions and to access the record and exhibits is available at the Website's User Tips Link. Contact the OSHA Docket Office for information about materials not available through http://www.regulations.gov and for assistance in using the Internet to locate submissions and other documents in the record.

FOR FURTHER INFORMATION CONTACT: Ms. Michelle Walker, Acting Director, OSHA, Office of Federal Agency Programs, Room N-3622, U.S. Department of Labor, 200 Constitution Avenue, NW., Washington, DC 20210; telephone (202) 693-2122; fax (202) 693-1685; e-mail ofap@dol.gov.

SUPPLEMENTARY INFORMATION: On December 10, 2007, OSHA published a Federal Register notice inviting interested parties to submit nominations for FACOSH membership, with a submission deadline of January 9, 2008 (72 FR 69713). OSHA is reopening the record to provide additional time for interested parties to submit nominations. For instructions and information about submitting nominations, see 72 FR 69713.

FACOSH is authorized to advise the Secretary of Labor on all matters relating to the occupational safety and health of Federal employees (Occupational Safety and Health Act of 1970 (29 U.S.C. 688), 5 U.S.C. 7902, Executive Order 13446). This includes providing advice on how to reduce and keep at a minimum the number of injuries and illnesses in the Federal workforce and how to encourage the establishment and maintenance of effective occupational safety and health programs in each Federal department and agency.

Electronic copies of this Federal Register notice are available at http://www.regulations.gov.

Authority and Signature: Edwin G. Foulke, Jr., Assistant Secretary of Labor for Occupational Safety and Health, directed the preparation of this notice under the authority granted by section 19 of the Occupational Safety and Health Act of 1970 (29 U.S.C. 668), 5 U.S.C. 7902, section 1(c) of Executive Order 13446, 29 CFR Part 1960 (Basic Program Elements for Federal Employee Occupational Safety and Health Programs), and Secretary of Labor's Order 5-2007 (72 FR 31160).

Signed at Washington, DC this 15th day of January, 2008.
Edwin G. Foulke, Jr.,
Assistant Secretary of Labor for Occupational Safety and Health.

[FR Doc. E8-886 Filed 1-17-08; 8:45 am]

BILLING CODE 4510-26-P